ENVIRONMENTAL PROTECTION AGENCY

[FRL-6541-4]

Adequacy Status of Motor Vehicle Emissions Budgets in Submitted State Implementation Plans for Transportation Conformity Purposes; Maryland; Phase II Plan for the Baltimore Ozone Nonattainment Area

AGENCY: Environmental Protection Agency (EPA).

ACTION: Notice of adequacy status.

SUMMARY: EPA is announcing that the revised motor vehicle emissions budgets (hereafter referred to as “budgets”) contained in the revised Phase II Plan for the Baltimore Ozone Nonattainment Area submitted by the State of Maryland as a State Implementation Plan (SIP) revision are adequate for transportation conformity purposes. The State submitted the revised Phase II plan to EPA for parallel processing on December 3, 1999, and then formally submitted it on December 21, 1999. The Phase II SIP consists of the attainment demonstration and the two Post 99 Rate-of-Progress (ROP) plans (2002 and 2005) for the Baltimore nonattainment area. EPA has found the attainment budgets and the ROP budgets of the submitted revised Phase II SIP for the Baltimore area adequate for transportation conformity purposes.

DATES: The findings that the attainment and ROP budgets are adequate, made in a letter dated February 15, 2000 to the Maryland Department of the Environment, are effective on March 8, 2000.

FOR FURTHER INFORMATION CONTACT: Paul T. Wentworth, P.E., U.S. EPA, Region III, 1650 Arch Street, Philadelphia, PA. 19103 at (215) 814-2184 or by e-mail at: Wentworth.Paul@epa.gov.

SUPPLEMENTARY INFORMATION: Throughout this document the terms “we,” “us,” or “our” refer to EPA. The word “budgets” refers to the motor vehicle emission budgets for volatile organic compounds (VOCs) and nitrogen oxides (NOx). The word “SIP” in this document refers to the revised Phase II Plan for the Baltimore nonattainment area submitted to EPA by the Maryland Department of the Environment (MDE) for parallel processing on December 3, 1999 and formally submitted on December 21, 1999. The Phase II Plan includes the attainment demonstration for the one-hour National Ambient Air Quality Standard (NAAQS) for ozone and the two Post 99 ROP plans (2002 and 2005) for the Baltimore nonattainment area.

On March 2, 1999, the D.C. Circuit Court ruled that the budgets contained in submitted SIPs cannot be used for transportation conformity determinations until EPA has affirmatively found them adequate. As a result of our findings, the attainment budgets and the ROP budgets contained in the submitted revised Phase II SIP for the Baltimore ozone nonattainment area may be used for future conformity determinations.

On April 29, 1998, MDE submitted its Phase II SIP for the Baltimore area. That Phase II SIP contained mobile source vehicle emissions budgets both for ROP and for attainment. On August 2, 1999, the availability of the Phase II SIP and the motor vehicle emission budgets was posted on EPA's conformity WEB site for the purpose of soliciting public comment. The comment period closed on August 31, 1999, and no comments were received. On October 26, 1999 EPA we sent a letter to MDE which constituted final Agency actions on the adequacy of the budgets contained in the Phase II SIP submitted on April 29, 1999. Those actions were EPA's findings that the budgets were not adequate.

On December 3, 1999, a revised Phase II plan with new attainment and ROP budgets was submitted as a SIP revision by MDE for parallel processing. The revised Phase II plan was formally submitted on December 21, 1999. On December 21, 1999, we posted the availability of the SIP and the motor vehicle emission budgets on our conformity website for the purpose of soliciting public comment on the adequacy of the mobile budgets. The comment period closed on January 20, 2000. EPA received comments from the University of Maryland School of Law on behalf of its client, an organization called the 1000 Friends of Maryland.

On February 15, 2000, we sent a letter to MDE which constituted final Agency actions on the adequacy of the budgets contained in the revised Phase II SIP. Those actions were EPA's findings that the attainment budgets and the ROP budgets are adequate for transportation conformity purposes. This is an announcement of adequacy findings that we already made on February 15, 2000. The effective date of these findings is March 8, 2000. These findings will also be announced on EPA's website: http://www.epa.gov/oms/traq, (once there, click on the “Conformity” button, then look for “Adequacy Review of SIP Submissions for Conformity”). The website will contain a detailed analysis of our adequacy finding and our responses to the public comments received from the University of Maryland School of Law on behalf of its client, the 1000 Friends of Maryland. Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the NAAQS. The criteria by which we determine whether a SIP's budgets are adequate for conformity purposes are outlined in 40 CFR 93.118(e)(4).

Please note that an adequacy finding is separate from EPA's completeness finding, and separate from EPA's finding whether or not the SIP is approvable. Even if we find a budget adequate, the SIP could later be disapproved. We describe our process for determining the adequacy of submitted SIP budgets in a guidance memorandum dated May 14, 1999 entitled “Conformity Guidance on Implementation of March 2, 1999 Conformity Court Decision”. We followed this guidance in making our adequacy findings for the budgets contained in the revised Phase II submitted on December 3, 1999 and December 21, 1999 by MDE. You may obtain a copy of this guidance from EPA's conformity website referred to above or by calling the contact name listed in the For Further Information Contact section of this notice.

Authority: 42 U.S.C. 7401-7671q.

Dated: February 15, 2000.
Bradley M. Campbell,
Regional Administrator, Region III.

[FR Doc. 00-4122 Filed 2-17-00; 8:45 am]

BILLING CODE 6560-50-P